DEPARTMENT OF ENERGY

Federal Energy Regulatory Commission

Notice; Sunshine Act Meeting

September 3, 2003.

The following notice of meeting is published pursuant to section 3(a) of the Government in the Sunshine Act (Pub. L. 94-409), 5 U.S.C. 552B:

Agency Holding Meeting: Federal Energy Regulatory Commission.

Date and Time: September 10, 2003; 11 a.m.

Place: Room 2C, 888 First Street, NE., Washington, DC 20426.

Status: Open.

Matters To Be Considered: Agenda.

Note: Items listed on the agenda may be deleted without further notice.

Contact Person for More Information: Magalie R. Salas, Secretary, Telephone (202) 502-8400. For a recording listing items stricken from or added to the meeting, call (202) 502-8627.

This is a list of matters to be considered by the commission. It does not include a listing of all papers relevant to the items on the agenda; however, all public documents may be examined in the reference and information center.

838th Meeting September 10, 2003; Regular Meeting, 11 a.m.

Administrative Agenda

A-1.

Docket# AD02-1, 000, Agency Administrative Matters

A-2.

Docket# AD02-7, 000, Customer Matters, Reliability, Security and Market Operations

A-3.

FERC's Strategic Plan for FY 2003-2005

Markets, Tariffs and Rates—Electric

E-1.

Omitted

E-2.

Docket# ER03-552, 000, New York Independent System Operator, Inc.

Other#s ER03-552, 001, New York Independent System Operator, Inc.

ER03-552, 002, New York Independent System Operator, Inc.

ER03-552, 003, New York Independent System Operator, Inc.

ER03-984, 000, New York Independent System Operator, Inc.

ER03-984, 001, New York Independent System Operator, Inc.

E-3.

Docket# PL03-5, 000, Guidance on Regional Transmission Organization and Independent System Operator Filing Requirements Under the Federal Power Act

E-4.

Omitted

E-5.

Docket# ER03-1081, 000, Midwest Independent Transmission System Operator, Inc.

E-6.

Omitted

E-7.

Omitted

E-8.

Docket# ER03-1114, 000, Carville Energy LLC

E-9.

Omitted

E-10.

Omitted

E-11.

Docket# ER03-510, 000, Delta Energy Center, LLC

Other#s ER03-510, 001, Delta Energy Center, LLC

E-12.

Docket# ER03-1038, 000, Florida Power and Light Company

Other#s EC03-104, 000, FPL Energy Seabrook, LLC

E-13.

Docket# ER02-488, 003, Midwest Independent Transmission System Operator, Inc.

E-14.

Omitted

E-15.

Docket# ER01-1807, 011, Carolina Power and Light Company and Florida Power Corporation

Other#s ER01-1807, 012, Carolina Power and Light Company and Florida Power Corporation

ER01-2020, 008, Carolina Power and Light Company and Florida Power Corporation

ER01-2020, 009, Carolina Power and Light Company and Florida Power Corporation

E-16.

Docket# ER02-562, 001, Michigan Electric Transmission Company

E-17.

Docket# TX03-1, 000, Mirant Las Vegas, LLC, Duke Energy Moapa, LLC, Gen West, LLC, Las Vegas Cogeneration II, LLC and Reliant Energy Bighorn LLC

Other#s ER02-1741, 000, Nevada Power Company

ER02-1742, 000, Nevada Power Company

TX03-1, 001, Mirant Las Vegas, LLC, Duke Energy Moapa, LLC, Gen West, LLC, Las Vegas Cogeneration II, LLC and Reliant Energy Bighorn LLC

E-18.

Omitted

E-19.

Docket# EL02-47, 001, Wisconsin Power and Light Company

Other#s EL02-47, 002, Wisconsin Power and Light Company

EL02-52, 001, Wisconsin Power and Light Company

E-20.

Docket# ER99-2854, 003, Entergy Services, Inc.

Other#s ER95-112, 014, Entergy Services, Inc.

ER96-586, 009, Entergy Services, Inc.

EL99-87, 003, Entergy Services, Inc.

E-21.

Docket# RT02-1, 004, Arizona Public Service Company, El Paso Electric Company, Public Service Company of New Mexico and Tucson Electric Power Company

Other#s EL02-9, 002, WestConnect RTO, LLC

E-22.

Omitted

E-23.

Omitted

E-24.

Docket# ER03-367, 001, Soyland Power Cooperative, Inc.

E-25.

Omitted

E-26.

Omitted

E-27.

Omitted

E-28.

Omitted

E-29.

Docket# ER03-574, 001, Midwest Independent Transmission System Operator, Inc.

E-30.

Docket# EL03-9, 001, Alternate Power Source, Inc. v. Western Massachusetts Electric Company and Northeast Utilities System

E-31.

Docket# EL03-127, 001, Commonwealth Edison Company v. Midwest Generation, L.L.C.

E-32.

Omitted

E-33.

Docket# ER03-249, 002, Illinois Power Company

E-34.

Omitted

E-35.

Docket# EL03-16, 001, PPL Electric Utilities Corporation

E-36.

Docket# EL02-122, 001, Sithe Power Marketing, L.P. and Exelon Generation Company, LLC v. ISO New England, Inc.

E-37.

Omitted

E-38.

Docket# ER03-743, 002, Virginia Electric and Power Company

Other#s ER03-743, 001, Virginia Electric and Power Company

E-39.

Docket# EL03-11, 003, Wisvest Connecticut, LLC v. ISO New England, Inc.

E-40.

Docket# EL03-42, 001, Occidental Power Services, Inc. v. PJM Interconnection, L.L.C.

E-41.

Omitted

E-42.

Omitted

E-43.

Docket# EL02-77, 000, Puget Sound Energy, Inc.

E-44.

Docket# EL03-120, 000, Morgan Stanley Capitol Group Inc.

E-45.

Docket# EL03-209, 000, Pinnacle West Energy Corporation v. Nevada Power Company

Other#s EL03-213, 000, Southern Nevada Water Authority v. Nevada Power Company

E-46.

Docket# ER01-1639, 004, Pacific Gas and Electric Company

E-47.

Docket# RT01-1, 000, RTO Informational Filings

Other#s RT01-5, 000, Maine Public Service Company

RT01-11, 000, Baconton Power LLC

RT01-16, 000, SOWEGA Power LLC

RT01-19, 000, Maine Electric Power Company

RT01-30, 000, Florida Keys Electric Cooperative Association, Inc.

RT01-39, 000, Concord Electric Company and Exeter and Hampton Electric Light Company

RT01-61, 000, Northern Maine Independent System Administrator, Inc.

RT01-86, 001, Bangor Hydo-Electric Company, Central Maine Power Company, National Grid USA, Northeast Utilities Services Company, The United Illuminating Company, Vermont Electric Power Company, Inc., and ISO New England Inc.

RT01-89, 000, Citizens Communications Company

RT01-90, 000, Fitchburg Gas and Electric Light Company, Concord Electric Company and Exeter and Hampton Electric Light Company

RT01-94, 001, NSTAR Services Company

RT01-95, 001, New York Independent System Operator, Inc.

RT01-97, 000, Central Vermont Public Service Corporation, Citizens Communications Company, Green Mountain Power Corporation, and Vermont Electric Power Company Inc.

RT01-99, 000, Regional Transmission Organizations

RT01-99, 001, Regional Transmission Organizations

RT02-3, 000, ISO New England Inc. and New York Independent System Operator, Inc.

E-48.

Omitted

E-49.

Docket# PA02-2, 000, Fact-Finding Investigation of Potential Manipulation of Electric and Natural Gas Prices

E-50.

Docket# PA02-2, 004, Fact-Finding Investigation of Potential Manipulation of Electric and Natural Gas Prices

E-51.

Docket# ER03-184, 000 Geysers Power Company, LLC

Other#s ER03-184, 001, Geysers Power Company, LLC

E-52.

Docket# EC03-100, 000, PDI Stoneman, Inc., and Mid-American Power, LLC

E-53.

Docket# ER02-1333, 001, PJM Interconnection, LLC

E-54.

Docket# EL03-28, 000, Town of Wallingford, Connecticut and Connecticut Municipal Electric Energy Cooperative v. Connecticut Light and Power Company, Select Energy, Inc., and Northeast Utilities Service Company

Markets, Tariffs and Rates—GAS

G-1.

Docket# RP96-200, 092, CenterPoint Energy Gas Transmission Company

Other#s RP96-200, 097, CenterPoint Energy Gas Transmission Company

RP96-200, 101, CenterPoint Energy Gas Transmission Company

RP96-200, 102, CenterPoint Energy Gas Transmission Company

RP96-200, 103, CenterPoint Energy Gas Transmission Company

RP96-200, 104, CenterPoint Energy Gas Transmission Company

RP96-200, 105, CenterPoint Energy Gas Transmission Company

RP96-200, 106, CenterPoint Energy Gas Transmission Company

RP96-200, 107, CenterPoint Energy Gas Transmission Company

RP96-200, 108, CenterPoint Energy Gas Transmission Company

RP96-200, 110, CenterPoint Energy Gas Transmission Company

RP96-200, 111, CenterPoint Energy Gas Transmission Company

G-2.

Docket# OR03-4, 000, Plantation Pipe Line Company v. Colonial Pipeline Company

G-3.

Docket# RP03-315, 001, Kern River Gas Transmission Company

G-4.

Omitted

G-5.

Docket# RP98-53, 000, Kinder Morgan Interstate Gas Transmission LLC

Other#s GP98-29, 000, ONEOK Resources Company

G-6.

Docket# RP00-473, 000, Carnegie Interstate Pipeline Company

G-7.

Docket# RP02-393, 000, Columbia Gas Transmission Corporation

G-8.

Omitted

G-9.

Docket# RP00-461, 001, Western Gas Interstate Company

Other#s RP00-461, 002, Western Gas Interstate Company

G-10.

Docket# RP01-503, 003, Natural Gas Pipeline Company of America

Other#s RP01-503, 002, Natural Gas Pipeline Company of America

G-11.

Docket# RP03-258, 003, Iroquois Gas Transmission System, L.P.

G-12.

Omitted

G-13.

Docket# RP00-332, 004, ANR Pipeline Company

Other#s RP00-332, 005, ANR Pipeline Company

RP00-332, 006, ANR Pipeline Company

RP00-597, 003, ANR Pipeline Company

RP03-182, 001, ANR Pipeline Company

G-14.

Docket# GP99-15, 002, Burlington Resources Oil and Gas Company

Other#s RP98-39, 002, Northern Natural Gas Company

SA98-101, 002, Continental Energy

G-15.

Docket# RP03-393, 002, Northern Natural Gas Company

Other#s RP03-393, 003, Northern Natural Gas Company

G-16.

Docket# OR02-6, 001, Sinclair Oil Corporation v. Rocky Mountain Pipeline System, LLC and BP Pipelines (North America), Inc.

G-17.

Docket# RP03-484, 000, The Toca Producers v. Southern Natural Gas Company

Other#s RP01-208, 000, Amoco Production Company, BP Exploration and Oil, Inc., Chevron U.S.A., Inc., Exxon/Mobil Gas Marketing Company and Shell Offshore, Inc.

G-18.

Docket# RP02-23, 000, El Paso Natural Gas Company v. Phelps Dodge Corporation

G-19.

Docket# PR02-14, 001, Bridgeline Gas Distribution LLC

G-20.

Docket# RP03-563, 000, Northern Border Pipeline Company

G-21.

Docket# RP03-564, 000, Dominion Cove Point LNG, LP

RP03-564, 001, Dominion Cove Point LNG, LP

Energy Project—HYDRO

H-1.

Docket# P-460, 021, City of Tacoma, Washington

Other#s P-460, 027, City of Tacoma, Washington

H-2.

Docket# P-2525, 046, Wisconsin Public Service Corporation

Other#s P-2522, 068, Wisconsin Public Service Corporation

P-2560, 042, Wisconsin Public Service Corporation

P-2595, 060, Wisconsin Public Service Corporation

P-2525, 044, Wisconsin Public Service Corporation

P-2525, 051, Wisconsin Public Service Corporation

P-2546, 063, Wisconsin Public Service Corporation

P-2546, 064, Wisconsin Public Service Corporation

P-2546, 068, Wisconsin Public Service Corporation

P-2560, 040, Wisconsin Public Service Corporation

P-2560, 047, Wisconsin Public Service Corporation

P-2522, 066, Wisconsin Public Service Corporation

P-2522, 074, Wisconsin Public Service Corporation

P-2595, 058, Wisconsin Public Service Corporation

P-2595, 065, Wisconsin Public Service Corporation

Energy Projects—Certificates

C-1.

Docket# CP02-430, 001, Saltville Gas Storage Company, L.L.C.

Other#s CP02-430, 002, Saltville Gas Storage Company, L.L.C.

C-2.

Docket# CP03-39 000, Kinder Morgan Interstate Gas Transmission, LLC

C-3.

Docket# CP03-46, 000, Dominion Transmission, Inc. and Texas Eastern Transmission, LP

C-4.

Docket# CP02-4, 005, Northwest Pipeline Corporation

Other#s CP02-4, 006, Northwest Pipeline Corporation

C-5.

Docket# CP03-29, 000, Columbia Gas Transmission Corporation

C-6.

Docket# CP03-41, 000, Dominion Transmission, Inc.

Other#s CP03-43, 000, Texas Eastern Transmission, LP

C-7.

Docket# CP03-57, 000, El Paso Natural Gas Company

C-8.

Docket# CP03-335, 000, Calpine Corporation and Otay Mesa Generating Company, LLC

C-9.

Docket# CP02-374, 000, Cameron LNG, LLC (formerly d/b/a Hackberry LNG Terminal, L.L.C.)

Other#s CP02-374, 001, Cameron LNG, LLC (formerly d/b/a Hackberry LNG Terminal, L.L.C.)

CP02-376, 000, Cameron LNG, LLC (formerly d/b/a Hackberry LNG Terminal, L.L.C.)

CP02-376, 001, Cameron LNG, LLC (formerly d/b/a Hackberry LNG Terminal, L.L.C.)

CP02-377, 000, Cameron LNG, LLC (formerly d/b/a Hackberry LNG Terminal, L.L.C.)

CP02-377, 001, Cameron LNG, LLC (formerly d/b/a Hackberry LNG Terminal, L.L.C.)

CP02-378, 000, Cameron LNG, LLC (formerly d/b/a Hackberry LNG Terminal, L.L.C.)

CP02-378, 001, Cameron LNG, LLC (formerly d/b/a Hackberry LNG Terminal, L.L.C.)

C-10.

Docket# CP03-65, 000, Columbia Gas Transmission Corporation

C-11.

Docket# CP02-20, 001, Iroquois Gas Transmission System, L.P.

C-12.

Omitted

C-13.

Docket# CP01-153, 005, Tuscarora Gas Transmission Company

C-14.

Docket# CP02-434, 001, ANR Pipeline Company

C-15.

Docket# CP03-295, 000, Clear Fork Pipeline Company

C-16.

Docket# CP01-37, 000, Trans-Union Interstate Pipeline, L.P.

Other#s CP01-37, 001, Trans-Union Interstate Pipeline, L.P.

C-17.

Docket# CP96-248, 011, Portland Natural Gas Transmission System

Magalie R. Salas,
Secretary.

[FR Doc. 03-23117 Filed 9-5-03; 3:59 pm]

BILLING CODE 6717-01-P